NATIONAL SCIENCE FOUNDATION

Advisory Committee for Geosciences; Notice of Meeting

In accordance with the Federal Advisory Committee Act (Pub. L. 92-463, as amended), the National Science Foundation announces the following meeting:

NAME: Advisory Committee for Geosciences (1755).

DATES AND TIMES: October 19, 2016; 8:30 a.m.-5:00 p.m., October 20, 2016; 8:30 a.m.-2:00 p.m.

PLACE: National Science Foundation, 4201 Wilson Blvd., Stafford I, Room 1235, Arlington, Virginia 22230.

TYPE OF MEETING: Open.

CONTACT PERSON: Melissa Lane, National Science Foundation, Suite 705, 4201 Wilson Blvd., Arlington, Virginia 22230. Phone 703-292-8500.

MINUTES: May be obtained from the contact person listed above.

PURPOSE OF MEETING: To provide advice, recommendations, and oversight on support for geoscience research and education including atmospheric, geo-space, earth, ocean and polar sciences.

Agenda:

Wednesday, October 19, 2016

• Directorate and NSF activities and plans

• Committee of Visitor Reports

• Update on GEO Education Activities

• Presentation on Reproducibility of Research Results

• Meeting with the NSF Director and CIO

Thursday, October 20, 2016

• Division Subcommittee Meetings

• Briefing on NSF Activities Related to Broader Participation and Broader Impacts

• Action Items/Planning for Spring 2017 Meeting

Dated: September 8, 2016.
Crystal Robinson,
Committee Management Officer.

[FR Doc. 2016-21955 Filed 9-12-16; 8:45 am]

BILLING CODE 7555-01-P